COMMITTEE FOR PURCHASE FROM PEOPLE WHO ARE BLIND OR SEVERELY DISABLED

Procurement List: Proposed Addition and Deletions

AGENCY: Committee for Purchase From People Who Are Blind or Severely Disabled.

ACTION: Proposed addition to and deletions from Procurement List.

SUMMARY: The Committee is proposing to add to the Procurement List a product to be furnished by a nonprofit agency employing persons who are blind or have other severe disabilities, and to delete services previously furnished by such agencies.

Comments Must Be Received On or Before: February 8, 2010.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Addition

If the Committee approves the proposed addition, the entities of the Federal Government identified in this notice for each product will be required to procure the product listed below from the nonprofit agency employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the product to the Government.

2. If approved, the action will result in authorizing small entities provide the product to the Government.

3. There are no known regulatory alternatives which would accomplish the objectives of the Javits-Wagner-O'Day Act (41 U.S.C. 46-48c) in connection with the product proposed for addition to the Procurement List.

Comments on this certification are invited. Commenters should identify the statement(s) underlying the certification on which they are providing additional information.

End of Certification

The following product is proposed for addition to the Procurement List for production by the nonprofit agency listed:

Product

NSN: 8540-00-266-9898—Paper, Doily.

NPA: L.C. Industries for the Blind, Inc., Durham, NC.

Contracting Activity: Federal Acquisition Service, GSA/FSS OFC SUP CTR—Paper Products, New York, NY.

Coverage: B-List for the broad Government requirement as aggregated by the General Services Administration.

Deletions

Regulatory Flexibility Act Certification

I certify that the following action will not have a significant impact on a substantial number of small entities. The major factors considered for this certification were:

1. If approved, the action will not result in additional reporting, recordkeeping or other compliance requirements for small entities.

2. If approved, the action may result in authorizing small entities to provide the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Grounds Maintenance, Federal Aviation Administration, 1100 South Service Road, Airway Facilities Sector, Atlanta, GA.

NPA: WORKTEC, Jonesboro, GA.

Contracting Activity: Dept of Trans, Federal Aviation Administration, College Park, GA.

Service Type/Location: Food Service Attendant, Jacksonville Air National Guard, 14300 Fang Drive, Jacksonville, FL.

NPA: GINFL Services, Inc., Jacksonville, FL.

Contracting Activity: Dept of the Army, XRA W7M2 USPFO Activity FL ARNG, ST Augustine, FL.

Service Type/Location: Disposal Support Services, Eglin Air Force Base, East of Memorial Trail (excluding the airfield), Eglin, FL.

NPA: Lakeview Center, Inc., Pensacola, FL.

Contracting Activity: Defense Logistics Agency, DLA Support Services—DSS, Fort Belvoir, VA.

Patricia Briscoe,
Deputy Director, Business Operations.

[FR Doc. 2010-157 Filed 1-8-10; 8:45 am]

BILLING CODE 6353-01-P